DEPARTMENT OF THE INTERIOR

Fish and Wildlife Service

Fiscal Year 2006 Landowner Incentive Program (Non-Tribal Portion) for States, Territories, and the District of Columbia

AGENCY: Fish and Wildlife Service, Interior.

ACTION: Notice of request for proposals and response to comments on National Review Team Ranking Criteria Guidance.

SUMMARY: The Service is requesting proposals for Fiscal Year 2006 funding under the Landowner Incentive Program (LIP) for conservation grants to States, the District of Columbia, Puerto Rico, Guam, the United States Virgin Islands, the Northern Mariana Islands, and American Samoa (hereafter referred to collectively as States), and Tribes. Also, this notice provides an analysis of public comments and changes made to the Landowner Incentive Program National Review Team Ranking Criteria Guidance for Tier 2 Proposals. The Service has addressed the Tribal component of LIP under a separate Federal Register notice.

DATES: The Service must receive your grant proposal no later than April 24, 2006.

ADDRESSES: States must submit their proposals in electronic format (e.g. Word, Word Perfect or PDF files). The electronic files should be sent to Kim_Galvan@fws.gov. In addition, hard copy grant proposals must be submitted to the Service's Regional Offices of the Division of Federal Assistance at the addresses listed below in SUPPLEMENTARY INFORMATION.

FOR FURTHER INFORMATION CONTACT: Kim Galvan or Genevieve Pullis LaRouche, U.S. Fish and Wildlife Service, Division of Federal Assistance, 4401 North Fairfax Drive—Mailstop MBSP 4020, Arlington, VA 22203-1610; telephone 703-358-2420; e-mail kim_galvan@fws.gov or Genevieve_LaRouche@fws.gov.

SUPPLEMENTARY INFORMATION: The Service will award grants on a competitive basis to State fish and wildlife agency programs to enhance, protect, or restore habitats that benefit federally listed, proposed, or candidate species, or other at-risk species on private lands. A copy of the FY 2006 LIP Guidelines can be obtained at http://federalaid.fws.gov/lip/lipguidelines.html or from the following Regional Offices:

Region 1. Hawaii, Idaho, Oregon, Washington, American Samoa, Guam, and Commonwealth of the Northern Mariana Islands

Regional Director, Division of Federal Assistance, U.S. Fish and Wildlife Service, 911 NE., 11th Avenue, Portland, Oregon 97232-4181. LIP Contact: Dan Edwards, 503-231-6128; dan_edwards@fws.gov.

Region 2. Arizona, New Mexico, Oklahoma, and Texas

Regional Director, Division of Federal Assistance, U.S. Fish and Wildlife Service, 500 Gold Avenue, SW., Suite 9019, P.O. Box 1306, Albuquerque, New Mexico 87103-1306, LIP Contact: Penny Bartnicki, (505) 248-7465; penny_bartnicki@fws.gov.

Region 3. Illinois, Indiana, Iowa, Michigan, Minnesota, Missouri, Ohio, and Wisconsin

Regional Director, Division of Federal Assistance, U.S. Fish and Wildlife Service, Bishop Henry Whipple Federal Building, One Federal Drive, Fort Snelling, Minnesota 55111-4056. LIP Contact: Ann Schneider, (612) 713-5146; ann_schneider@fws.gov.

Region 4. Alabama, Arkansas, Florida, Georgia, Kentucky, Louisiana, Mississippi, North Carolina, South Carolina, Tennessee, Puerto Rico, and the U.S. Virgin Islands

Regional Director, Division of Federal Assistance, U.S. Fish and Wildlife Service, 1875 Century Boulevard, Suite 200, Atlanta, Georgia 30345. LIP Contact: Bob Gasaway, (404) 679-4169; bob_gasaway@fws.gov.

Region 5. Connecticut, Delaware, District of Columbia, Maine, Maryland, Massachusetts, New Hampshire, New Jersey, New York, Pennsylvania, Rhode Island, Vermont, Virginia, and West Virginia

Regional Director, Division of Federal Assistance, U.S. Fish and Wildlife Service, 300 Westgate Center Drive, Hadley, MA 01035-9589. LIP Contact: Colleen Sculley, (413) 253-8509; colleen_sculley@fws.gov.

Region 6. Colorado, Kansas, Montana, Nebraska, North Dakota, South Dakota, Utah, and Wyoming

Regional Director, Division of Federal Assistance, U.S. Fish and Wildlife Service, P.O. Box 25486, Denver Federal Center, Denver, Colorado 80225-0486. LIP Contact: Otto Jose, (303) 236-8156; otto_jose@fws.gov.

Region 7. Alaska

Regional Director, Division of Federal Assistance, U.S. Fish and Wildlife Service, 1011 East Tudor Road, Anchorage, Alaska 99503-6199. LIP Contact: Nancy Tankersley, (907) 786-3631; nancy_tankersley@fws.gov.

California/Nevada Office (CNO). California, Nevada

Regional Director, Division of Federal Assistance, U.S. Fish and Wildlife Service, 2800 Cottage Way, W-2606, Sacramento, CA 95825. LIP Contact: Becky Miller, (916) 978-6185; becky_a_miller@fws.gov.

The Service will distribute any LIP funds made available in the FY 2006 budget in the same manner as that described in this notice. The Service requests that the States number the pages in their proposals and limit each proposal to no more than 50 pages, inclusive of attachments. We will not accept facsimile grant proposals, and all parts of the grant proposal must be received by the deadline listed in DATES. Submit electronic copies to the e-mail address identified in ADDRESSES and hard copies to the appropriate regional office listed above.

Background

On September 16, 2005, the Service published a notice in the Federal Register (70 FR 54765) requesting comments on the proposed revisions to the National Review Team Ranking Criteria Guidance for Tier 2 LIP Grant Proposals. The Service received 28 written responses by the close of the comment period on October 31, 2005. The responses came from 25 State Fish and Wildlife Agencies, one nongovernmental organization, and two private citizens. We received a total of 21 substantive comments regarding the ranking criteria guidance. Based on these substantive comments, we made a few additional revisions to the ranking criteria. Overall, we believe these changes to the ranking criteria guidance will allow reviewers to more fairly assess the merit of Tier 2 LIP grant proposals. We provide below the Final National Review Team Ranking Criteria Guidance for Tier 2 LIP Grant Proposals, and responses to the substantive comments that we received.

Landowner Incentive Program (LIP) National Review Team Ranking Criteria Guidance for Tier 2 Grant Proposals

State:___

1. Overall—Proposal provides clear and sufficient detail to describe the State's use of awarded funds from the LIP, and the State's program has a high likelihood for success. (5 points total).

a. Proposal is easy to understand and contains all elements described in 522 FW 1.3C: Need; Objective; Expected Results and Benefits; Approach; and Budget. (0-2 pts).

b. Proposal, taken as a whole, demonstrates that the State can implement a Landowner Incentive Program that has a high likelihood for success in conserving at-risk species on private lands (for example, agency support for program, dedicated staff in place to implement program, priorities clearly identified, processes in place to implement program, past successes, etc.). (0-3 pts).

2. Need—Proposal describes the urgency for implementing a LIP. States should describe how their LIP is a part of a broader scale conservation effort at the State or regional level. (5 points total).

a. Proposal clearly describes the urgency of need for a LIP to benefit at-risk species in the State. (0-2 pts).

b. Proposal clearly describes conservation needs for targeted at-risk species that relate directly to objectives and conservation actions described in other sections of the proposal. (0-3 pts).

3. Objectives—Proposal provides clear objectives that specify fully what is to be accomplished. (6 points total).

a. The objectives of the proposal describe discrete obtainable and quantifiable outputs to be accomplished (for example, the proposal identifies the number of acres of wetlands or other types of habitat, the number of stream miles to be restored, the number of landowners served, the number of management plans developed, etc.) (0-3 pts).

b. The objectives of the proposal describe discrete, obtainable and quantifiable outcomes to be accomplished (for example, the proposal identifies the number of at-risk species whose habitat within the State will be improved; the percentage increase in a population(s) of one or more at-risk species on LIP project sites; the increase in number of individuals of one or more at-risk species on LIP project sites, etc). (0-3 pts).

4. Expected Results and Benefits—Proposal clearly describes how the activities will benefit targeted at-risk species. (13 points total).

a. Proposal describes by name the species-at-risk to benefit from the proposal. (0-2 pts).

b. Proposal identifies habitat requirements for these targeted at-risk species. (0-3 pts).

c. Proposal makes clear connections between the conservation actions proposed and expected benefits for species and habitats (i.e., describes how conservation actions will result in benefits). (0-3 pts).

d. Proposal describes the short-term benefits for at-risk species to be achieved within a 5- to 10-year period. (0-2 pts).

e. Proposal describes the long-term benefits for at-risk species to be achieved beyond 10 years. (0-3 pts).

5. Approach—Proposal clearly describes how program objectives, contractual and fiscal management, and fund distribution will be accomplished and monitored. (24 points total).

Program Implementation—(6 points total).

a. Proposal describes the conservation priorities for the State's LIP. (0-2 pts).

b. Proposal describes the types of conservation projects and/or activities to be undertaken to address these priorities. (0-2 pts).

c. Proposal describes how conservation projects and/or activities will implement portions of conservation plans at a local, state, regional, or national scale, including the State's Comprehensive Wildlife Conservation Strategy. (0-2 pts).

Fiscal Administrative Procedures—Proposal describes adequate management systems for fiscal and contractual accountability. (3 points total).

d. Processes to ensure contractual and fiscal accountability between the State and participating landowners. (0-2 pts).

e. Proposal indicates that the State has an approved legal instrument to enter into agreements with landowners. (0-1 pt).

System for Fund Distribution—Proposal describes the State's fair and equitable system for fund distribution. (9 points total).

f. System described is inherently fair and free from bias. (0-2 pts).

g. Proposal describes State's selection or ranking criteria and process to select projects (include copies of any relevant ranking or selection forms). (0-3 pts).

h. State's ranking or selection criteria are adequate to select projects based on conservation priorities identified in the proposal. (0-2 pts).

i. Project proposals will be (or were) subject to an objective selection procedure (for example, internal ranking panel, diverse ranking panel comprising external agency members and/or members of the public, computerized ranking model, or other non-ranking selection process). (0-2 pts).

Monitoring—Proposal describes State's biological and compliance monitoring plan for LIP including annual monitoring and evaluation of progress toward desired program objectives, results, and benefits. (6 points total).

j. Proposal describes compliance monitoring that will ensure accurate and timely evaluation to determine if landowners have completed agreed-upon practices in accordance with landowner agreement, including the process for addressing landowners who fail to comply with agreements. (0-3 pts).

k. Proposal describes biological monitoring that will ensure species and habitats are monitored and evaluated adequately to determine the effectiveness of LIP-sponsored activities and progress towards accomplishment of short- and long-term benefits (Monitoring items may entail approaches for developing monitoring protocols and establishing baselines, monitoring standards, timeframes for conducting monitoring activities, and expectations for monitoring.) (0-3 pts).

6. Budget—Proposal clearly identifies funds for use on private lands, identifies percentage of non-federal cost match, and identifies past funding awards. (7 points total).

a. Proposal describes the percentage of the State's total LIP Tier-2 program funds identified for use on private lands as opposed to staff and related administrative support. (4 points total).

0 point if this is not addressed or admin is >35%

1 point if admin is >25 to 35%

2 points if admin is >15 to 25%

3 points if admin is >5 to 15%

4 points if admin is 0 to 5%

Use on private lands includes all costs directly related to implementing on-the-ground projects with LIP funds. Activities considered project use include: technical guidance to landowner applicants; habitat restoration, enhancement, or management; purchase of conservation easements (including costs for appraisals, land survey, legal review, etc.); biological monitoring of Tier 2 project sites; compliance monitoring of Tier 2 projects. Staffing costs should only be included in this category when the staff-time will directly relate to implementation of a Tier 2 project. Standard Indirect rates negotiated between the State and Federal Government should also be included under Project Use.

Staff and related administrative support includes all costs related to administration of LIP. Activities considered administrative include outreach (presentations, development or printing of brochures, etc.); planning; research; administrative staff support; staff supervision; overhead charged by subgrantees unless the rate is an approved negotiated rate for Federal grants.

b. Proposal identifies the percentage of nonfederal cost sharing (3 points total).

(Note: I.T. = Insular Territories)

0 point if nonfederal cost share is 25%

1 point if nonfederal cost share is > 25 to 30% (>0 to 25% I.T.)

2 points if non federal cost share is > 30 to 35% (>25 to 30% I.T.)

3 points if nonfederal cost share is > 35 % (>30 % I.T.)

c. Proposal identifies percentage of previously awarded funds (exclude last fiscal year's awarded funds) that have been expended or encumbered. (Expended or encumbered funds are those Tier 2 funds that a State has either spent or has dedicated to a landowner through a signed contract between the landowner and the State. Funds must be expended/encumbered on or before the due date for submittal of the Tier 2 grant proposal to the USFWS) (subtract maximum of 3 points total.).

3 points subtracted if < 25% funds expended/encumbered

2 points subtracted if > 25 to 50% funds expended/encumbered

1 point subtracted if > 50 to 75% funds expended/encumbered

0 point subtracted if > 75 to 100% funds expended/encumbered

Total Score Possible = 60 Points

Total Score__

Analysis of Public Comments Received Regarding National Review Team Ranking Criteria Guidance for Tier 2 LIP Grant Proposals

Comments Addressing Criterion 1: Overall

Comment 1. Criteria 1a and 1b are subjective and should be removed.

Response: Based on our experience with ranking Tier 2 LIP proposals in the past, we believe a criterion that evaluates the overall quality of a proposal and of the proposed program is extremely useful. We expect that proposal reviewers will use their sound professional judgment to assign points for these criteria in a fair and consistent manner.

Comments Addressing Criterion 2: Need

Comment 2: Criterion 2a should be removed because urgency is implied whenever focusing conservation actions on species designated to be at-risk.

Response: We believe there is merit in clearly describing the urgency facing at-risk species within a State and the overall need for a LIP to address this urgency. In our experience reviewing proposals, this description of urgency of need is a good foundation for the remaining components of the proposal.

Comment 3: Criterion 2c is redundant with criterion 5b; one of the criteria should be removed.

Response: We agree with this comment and have removed criterion 2c from the ranking criteria guidance.

Comments Addressing Criterion 3: Objectives

Comment 4: Criterion 3 will result in proposals with a more narrow focus receiving lower scores than proposals with a broader focus due to the fact that points will be assigned based on the actual quantities of outcomes identified (for example, numbers of acres restored, etc.).

Response: We will not assign points under this criterion based on the quantity of outcomes proposed. Rather, points will be assigned based on whether the objectives are in a quantifiable format. In other words, a proposal that identifies 100 acres of wetlands to be restored would receive equal points under this criterion as a proposal that identifies 200 acres of wetlands to be restored. Proposals with objectives that are not quantified would receive reduced points under this criterion. States are encouraged to provide as many types of quantifiable objectives as possible (for example, number of acres, number of at-risk species, number of landowners, etc.).

Comment 5: Criterion 3 should identify other, less-biological outcomes as potential objectives (for example, number of management plans developed and number of landowners served).

Response: We have included a new criterion (3a) under Objectives that requests non-biological outputs such as those suggested.

Comments Addressing Criterion 4: Expected Results and Benefits

Comment 6: To receive full points under this criterion, a proposal would have to include highly specific results for specific species, habitats, and activities. These specific results could only be described if actual projects were already selected before submitting the proposal.

Response: We recognize the challenge of developing a proposal for a state-wide LIP that provides flexibility for implementation and adequate detail to address the ranking criteria. However, LIP is a competitive program, and we must use ranking criteria that can distinguish merit among proposals. Clearly, the expected benefits to at-risk species are a vital component of a LIP, and should be evaluated when determining merit of a proposal. In previous years, we have seen many examples of Tier 2 LIP proposals that describe adequately the expected benefits to at-risk species without actually selecting projects. For instance, the proposal can list the targeted at-risk species, identify the major habitats upon which these species depend, describe a suite of activities that may be employed, and describe the general types of benefits (short and long term) to be achieved as a result of the potential activities.

Comment 7: Criterion 4c is redundant with criterion 5a. One of these criteria should be removed.

Response: We have removed Criterion 4c (proposal describes conservation actions to be undertaken that will address current threats to the at-risk species and their habitats) from the ranking criteria guidance.

Comment 8: Criterion 4c (previously 4d) should be removed because it is redundant with criteria 4e and 4f.

Response: We do not think that criterion 4c is redundant with criteria 4e and 4f (now 4d and 4e). The first criterion evaluates whether the connections between actions and benefits are clearly described; whereas, the second two criteria evaluate whether short- and long-term benefits are clearly described. We have reworded the criteria to make this distinction more clear.

Comment 9: Awarding points for criterion 4e (previously 4f) would favor programs focused on purchasing conservation easements, or conservation activities occurring on permanently protected private lands. “Long term” should be defined as greater than 5 years.

Response: Given that this is a competitive grant program, we believe that it is reasonable to provide additional points to those proposals that identify benefits for at-risk species that will be greater than 10 years. We do not agree that only proposals identifying conservation easements or working on already protected properties will qualify for points under this criterion. Based on our review of previous proposals, we expect that some States can successfully negotiate agreements with landowners to manage, maintain, or restore habitat for 10 years or longer. This criterion provides an incentive to encourage (not require) longer term commitments from the State and landowners. If a State cannot commit to these longer term benefits, it will still be eligible for points for shorter term benefits under criterion 4d.

Comments Addressing Criterion 5: Approach

Comment 10: Ranking criteria guidance should evaluate whether the proposal clearly identifies the conservation priorities for at-risk species and describes how LIP will address these priorities.

Response: We have included a new criterion 5a (proposal describes the conservation priorities for the State's LIP) to address this comment.

Comment 11: Criteria 5c and 5d are redundant. One of these criteria should be removed.

Response: We have combined criteria 5c and 5d together under criterion 5c and reduced the criterion to 2 points.

Comment 12: Criteria 5g, 5h, 5i favor programs that employ a ranking system to select projects. Several States are successfully implementing programs that do not use ranking systems to select projects. These States would be penalized under these criteria.

Response: We have reworded Criteria 5g, 5h, and 5i to address a broader array of project selection procedures.

Comment 13: Criterion 5k indicates that proposals should describe specific biological monitoring protocols and plans. States cannot develop these specific plans and protocols for monitoring species until specific projects are selected. Also, biological monitoring of species can be very expensive and might require significant amounts of Tier 2 funds to accomplish.

Response: We recognize the challenges associated with biological monitoring of at-risk species and habitats. However, we believe that monitoring to ensure the effectiveness of grant activities on species and habitats is an essential component of LIP. We do not expect that proposals will describe highly specific monitoring protocols for species and habitats. Rather criterion 5k will be used to evaluate whether proposals have identified the need for, and general approach to, biological monitoring to ensure that conservation actions are effective. This monitoring can address species, or habitat surrogates, as necessary and based on funding available.

Comment 14: Criterion 6c should be removed as it favors States that have submitted unsuccessful proposals in the past.

Response: We have removed criterion 6c.

Comment 15: Criterion 6c (previously criterion 6d) favors States that have received Tier 2 funds in the past. States that have not received funds previously are ineligible for points under this criterion. The terms “expended,” “encumbered,” and “on-the-ground projects” should be defined more clearly. Five points is too great to assign to this criterion. The criterion does not award points to States that have successfully spent portions of last fiscal year's funds. The 50 percent benchmark is too high for this criterion.

Response: We have revised this criterion (now criterion 6c) to be deductive so that States having not received Tier 2 funds will not be penalized. Points will be subtracted from proposals, rather than added. The greater the percentage of Tier 2 funds that a State has not encumbered or expended, the greater the number of points that will be deducted. The points assigned to this criterion have been reduced from five to three, and the benchmark has been reduced to 25 percent. The terms “expended” and “encumbered” have been further defined, and references to “on-the-ground project” have been removed.

Comments Addressing Funding Levels Available to the States

Comment 16: The maximum funding that a single State may receive should remain at 5 percent of the total awarded to the States in a fiscal year. The majority of commenters supported a 5 percent cap, and many of these commenters recommended that partial funding of proposals based on their merit be allowable.

Response: For fiscal year 2006, the funding cap will remain at 5 percent, and we will consider partial funding of proposals based on merit on an as-needed basis. In the future, if the total amount of LIP funds continues to decline and the quality of many proposals remains high, we may consider lowering the cap to 3 percent.

Comment 17: For the Landowner Incentive Program to succeed, the level of the national funding must increase. Some commenters felt that the program should remain competitive, while others stated that it should not be competitive.

Response: The Service is not responsible for determining the annual appropriation for the program, nor can it decide whether it is competitive or not. Any change from a competitive to a non-competitive program needs congressional authorization.

Other Comments

Comment 18: The guidelines and ranking criteria guidance for the Landowner Incentive Program should remain as flexible as possible to maximize the ability of the States to succeed in conserving at-risk species on private lands.

Response: We have attempted to maintain flexibility in the ranking criteria guidance, while also establishing clear criteria that will allow us to distinguish between the merits of proposals. Clear ranking criteria are essential given the requirement that the program be competitive and given the high demand for this limited funding source.

Comment 19: The combined points allocated to criterion 3 (Objectives) and criterion 4 (Expected Results and Benefits) should be greater or equal to the points allocated to criterion 5 (Approach). The outcomes for at-risk species are equally if not more important than the approach to achieving these outcomes.

Response: We believe that the weight given to criteria related to Approach is reasonable given that we evaluate Landowner Incentive Programs overall, not specific projects. Clearly, the approach taken in implementing these programs will greatly affect whether they are ultimately successful.

Comment 20: States have been delayed in spending previous Tier 2 awards, due to lengthy reviews associated with Federal compliance requirements including Section 7 of the Endangered Species Act, Section 106 of the National Historic Preservation Act, and the National Environmental Policy Act. States undergoing these lengthy compliance reviews should not be penalized in the ranking criteria for slow spending of previously awarded funds.

Response: We are aware of the problems associated with compliance review for Landowner Incentive Program grants. The Division of Federal Assistance is working to fix these problems and quicken the review procedures.

Comment 21: The length of time between proposal submittal and award announcement should be reduced to allow States more quickly to implement their programs.

Response: We will try to reduce these delays in the announcement of LIP awards in the future.

Pamela A. Matthes,
Acting Assistant Director.

[FR Doc. E6-2431 Filed 2-21-06; 8:45 am]

BILLING CODE 4310-55-P